FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

CIL Freight Inc. (NVO & OFF), 1990 Lakeside Parkway, #300, Tucker, GA 30084. Officers: Pui Pui So, Vice President, (Qualifying Individual), Jianjun Gan, President/Secretary/Treasurer, Application Type: Add NVO Service.

Continental Services & Carrier Inc. (NVO & OFF), 6045 NW. 87th Avenue, Miami, FL 33178. Officers: Rodolfo Luciani, Vice President, (Qualifying Individual), Mirtha Lopez, President, Application Type: Add OFF Service.

Global Cargo Express, Inc. (NVO), 2063 S. Atlantic Blvd., Suite 307, Monterey Park, CA 91754. Officer: Yufu Xing, President/Secretary/Treasurer, (Qualifying Individual), Application Type: Add OFF Service.

IAL Container Line (USA) Inc. (NVO & OFF), 50 Cragwood Road, #115, South Plainfield, NJ 07080. Officers: Peter George, President/Secretary/Treasurer, (Qualifying Individual), Arjun Menon, Director, Application Type: QI Change.

KSB Shipping & Logistics LLC (NVO & OFF), 50 Cragwood Road, Suite 123, South Springfield, NJ 07080. Officer: Satish K. Sharma, Member/Manager, (Qualifying Individual), Application Type: Add OFF Service.

North Atlantic International Ocean Carrier Inc. (NVO), 1550 Matassino Road, New Castle, DE 19720. Officer: Efren D. Jimenez, President, (Qualifying Individual), Application Type: Business Structure Change/Add OFF Service.

Payless Overseas Shipping LLC (NVO & OFF), 21120 LOP 494, New Caney, TX 77357. Officers: Khaldoon Barakat, CEO, (Qualifying Individual), Hossam (Sam) Barakat, President/General Manager, Application Type: Name Change.

T.V.L. Global Logistics (N.Y.) Corp. (NVO), 36-54 Main Street, Flushing, NY 11354. Officers: Tony Lu, Vice President, (Qualifying Individual), Application Type: QI Change.

Dated: December 3, 2010.
Rachel E. Dickon,
Assistant Secretary.

[FR Doc. 2010-30879 Filed 12-7-10; 8:45 am]

BILLING CODE 6730-01-P